NUCLEAR REGULATORY COMMISSION

[NRC-2023-0183]

Monthly Notice; Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by November 30, 2023. A request for a hearing or petitions for leave to intervene must be filed by January 2, 2024. This monthly notice includes all amendments issued, or proposed to be issued, from September 15, 2023, to October 12, 2023. The last monthly notice was published on October 3, 2023.

ADDRESSES: You may submit comments by any of the following methods; however, the NRC encourages electronic comment submission through the Federal rulemaking website:

• Federal rulemaking website: Go to https://www.regulations.gov and search for Docket ID NRC-2023-0183. Address questions about Docket IDs in Regulations.gov to Stacy Schumann; telephone: 301-415-0624; email: Stacy.Schumann@nrc.gov. For technical questions, contact the individual listed in the For Further Information Contact section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Angela Baxter, Office of Nuclear Reactor Regulation, U.S. Nuclear Regulatory Commission, Washington, DC 20555-0001, telephone: 301-415-8209; email: Angela.Baxter@nrc.gov.

SUPPLEMENTARY INFORMATION:

I. Obtaining Information and Submitting Comments

A. Obtaining Information

Please refer to Docket ID NRC-2023-0183, facility name, unit number(s), docket number(s), application date, and subject when contacting the NRC about the availability of information for this action. You may obtain publicly available information related to this action by any of the following methods:

• Federal Rulemaking Website: Go to https://www.regulations.gov and search for Docket ID NRC-2023-0183.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2023-0183, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any person (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. If a petition is filed, the Commission or a presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

If a hearing is requested, and the Commission has not made a final determination on the issue of no significant hazards consideration, the Commission will make a final determination on the issue of no significant hazards consideration, which will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or designated agency thereof, may submit a petition to the Commission to participate as a party under 10 CFR 2.309(h) no later than 60 days from the date of publication of this notice. Alternatively, a State, local governmental body, Federally recognized Indian Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and on the NRC's public website at

https://www.nrc.gov/about-nrc/regulatory/adjudicatory/hearing.html#participate.

B. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Request(s)
Constellation Energy Generation, LLC; Clinton Power Station, Unit No. 1; DeWitt County, IL
Docket No | 50-461.
Application date | August 21, 2023.
ADAMS Accession No | ML23233A168.
Location in Application of NSHC | Pages 16-18 of Attachment 1.
Brief Description of Amendment | The proposed amendment would revise the timing of the reactor water cleanup isolation valves specified in Technical Specification Table 3.3.6.1-1.
Proposed Determination | NSHC.
Name of Attorney for Licensee, Mailing Address | Jason Zorn, Associate General Counsel, Constellation Energy Generation, 4300 Winfield Road, Warrenville, IL 60555.
NRC Project Manager, Telephone Number | Joel Wiebe, 301-415-6606.
Constellation Energy Generation, LLC; Clinton Power Station, Unit No. 1; DeWitt County, IL; Constellation Energy Generation, LLC; Dresden Nuclear Power Station, Units 2 and 3; Grundy County, IL; Constellation Energy Generation, LLC; LaSalle County Station, Units 1 and 2; LaSalle County, IL; Constellation Energy Generation, LLC; Quad Cities Nuclear Power Station, Units 1 and 2; Rock Island County, IL; Nine Mile Point Nuclear Station, LLC and Constellation Energy Generation, LLC; Nine Mile Point Nuclear Station, Unit 2; Oswego County, NY
Docket Nos | 50-461, 50-237, 50-249, 50-373, 50-374, 50-410, 50-254, 50-265.
Application date | August 30, 2023.
ADAMS Accession No | ML23242A107.
Location in Application of NSHC | Pages 4-6 of Attachment 1.
Brief Description of Amendments | The proposed amendments would incorporate Technical Specifications Task Force (TSTF) Improved Standard Technical Specifications Change Traveler TSTF-264-A, Revision 0, “3.3.9 and 3.3.10—Delete Flux Monitors Specific Overlap Requirement SRs [Surveillance Requirements]” into each listed site's technical specifications.
Proposed Determination | NSHC.
Name of Attorney for Licensee, Mailing Address | Jason Zorn, Associate General Counsel, Constellation Energy Generation, 101 Constitution Ave. NW, Suite 400 East, Washington, DC 20001.
NRC Project Manager, Telephone Number | Scott Wall, 301-415-2855.
Constellation Energy Generation, LLC; Dresden Nuclear Power Station, Units 2 and 3; Grundy County, IL
Docket Nos | 50-237, 50-249.
Application date | August 30, 2023.
ADAMS Accession No | ML23242A044.
Location in Application of NSHC | Pages 5-6 of Attachment 1.
Brief Description of Amendments | The proposed amendments request technical specification (TS) changes to adopt Technical Specification Task Force (TSTF) Traveler TSTF-564, Revision 2, “Safety Limit MCPR [minimum critical power ratio].” The change will revise the TS safety limit for MCPR.
Proposed Determination | NSHC.
Name of Attorney for Licensee, Mailing Address | Jason Zorn, Associate General Counsel, Constellation Energy Generation, 4300 Winfield Road, Warrenville, IL 60555.
NRC Project Manager, Telephone Number | Surinder Arora, 301-415-1421.
Constellation FitzPatrick, LLC and Constellation Energy Generation, LLC; James A. FitzPatrick Nuclear Power Plant; Oswego County, NY
Docket No | 50-333.
Application dates | August 3, 2023, as supplemented by letter dated August 31, 2023.
ADAMS Accession Nos | ML23215A012, ML23243A946.
Location in Application of NSHC | Pages 4-5 of Attachment 1.
Brief Description of Amendment | The proposed amendment would revise the James A. FitzPatrick Nuclear Plant fuel handling accident analysis and technical specification bases definition of recently irradiated fuel to account for changes to the analyses in support of the transition from the refuel bridge mast NF-400 (i.e., triangular mast) to the new NF-500 mast.
Proposed Determination | NSHC.
Name of Attorney for Licensee, Mailing Address | Jason Zorn, Associate General Counsel, Constellation Energy Generation, 101 Constitution Ave. NW, Suite 400 East, Washington, DC 20001.
NRC Project Manager, Telephone Number | Justin Poole, 301-415-2048.
Constellation FitzPatrick, LLC and Constellation Energy Generation, LLC; James A. FitzPatrick Nuclear Power Plant; Oswego County, NY
Docket No | 50-333.
Application date | July 28, 2023.
ADAMS Accession No | ML23209A003.
Location in Application of NSHC | Pages 9-11 of Attachment 1.
Brief Description of Amendment | The proposed amendment would revise the James A. FitzPatrick Nuclear Power Plant Technical Specifications 3.4, “Reactor Coolant System (RCS),” Section 3.4.3, “Safety/Relief Valves (S/RVs).” Specifically, Constellation Energy Generation, LLC proposes a new safety function lift setpoint lower tolerance for the S/RVs as delineated in SR 3.4.3.1. The proposed change would revise the lower setpoint tolerance from −3 percent to −5 percent.
Proposed Determination | NSHC.
Name of Attorney for Licensee, Mailing Address | Jason Zorn, Associate General Counsel, Constellation Energy Generation, 101 Constitution Ave. NW, Suite 400 East, Washington, DC 20001.
NRC Project Manager, Telephone Number | Justin Poole, 301-415-2048.
Constellation FitzPatrick, LLC and Constellation Energy Generation, LLC; James A. FitzPatrick Nuclear Power Plant; Oswego County, NY
Docket No | 50-333.
Application date | June 28, 2023.
ADAMS Accession No | ML23179A021.
Location in Application of NSHC | Pages 4-5 of Attachment 1.
Brief Description of Amendment | The proposed amendment modifies Surveillance Requirement (SR) 3.3.1.2.4 to incorporate an additional acceptance criterion based on a higher signal to noise ratio as provided in General Electric Service Information Letter 478 dated December 16, 1988. Specifically, an “or” statement will be added to SR 3.3.1.2.4 as follows: “or Verify count rate is ≥0.7 [counts per second] cps with a signal to noise ratio ≥20:1.”
Proposed Determination | NSHC.
Name of Attorney for Licensee, Mailing Address | Jason Zorn, Associate General Counsel, Constellation Energy Generation, 101 Constitution Ave. NW, Suite 400 East, Washington, DC 20001.
NRC Project Manager, Telephone Number | Justin Poole, 301-415-2048.
Duke Energy Progress, LLC; Brunswick Steam Electric Plant, Units 1 and 2; Brunswick County, NC
Docket No(s) | 50-325, 50-324.
Application date | August 17, 2023.
ADAMS Accession No | ML23229A456.
Location in Application of NSHC | Pages 18-20 of the Enclosure.
Brief Description of Amendments | The proposed amendments would revise the license condition associated with the adoption of 10 CFR 50.69, “Risk-informed categorization and treatment of structures, systems and components for nuclear power reactors,” that was added to the Brunswick Renewed Facility Operating Licenses upon the issuance of Amendments 292 (Unit 1) and 320 (Unit 2) and revised by Amendment Nos. 305 (Unit 1) and 333 (Unit 2). Specifically, the proposed change would revise the respective license condition to reflect an alternative approach for evaluating the impact of the seismic hazard in the 10 CFR 50.69 categorization process.
Proposed Determination | NSHC.
Name of Attorney for Licensee, Mailing Address | Tracey Mitchell LeRoy, Deputy General Counsel, Duke Energy Corporation, 4720 Piedmont Row Dr., Charlotte, NC 28210.
NRC Project Manager, Telephone Number | Luke Haeg, 301-415-0272.
Duke Energy Progress, LLC; H.B. Robinson Steam Electric Plant, Unit No. 2; Darlington County, SC
Docket No | 50-261.
Application date | August 30, 2023.
ADAMS Accession No | ML23242A086.
Location in Application of NSHC | Pages 18-19 of Attachment 1.
Brief Description of Amendment | The proposed amendment would eliminate the dynamic effects of postulated pipe ruptures to auxiliary piping systems attached to the reactor coolant system from the Robinson design and licensing basis using leak-before-break methodology.
Proposed Determination | NSHC.
Name of Attorney for Licensee, Mailing Address | Tracey Mitchell LeRoy, Deputy General Counsel, Duke Energy Corporation, 4720 Piedmont Row Dr., Charlotte, NC 28210.
NRC Project Manager, Telephone Number | Luke Haeg, 301-415-0272.
Duke Energy Progress, LLC; Shearon Harris Nuclear Power Plant, Unit 1; Wake and Chatham Counties, NC
Docket No | 50-400.
Application date | May 31, 2023.
ADAMS Accession No | ML23151A724.
Location in Application of NSHC | Page 18 of 20 of the Enclosure.
Brief Description of Amendment | The proposed amendment to the Shearon Harris Nuclear Power Plant (Harris) technical specifications (TS) will modify the TS Surveillance Requirement (SR) 4.6.1.1 to eliminate the requirement to perform periodic position verification for containment penetrations that are maintained locked, sealed, or otherwise secured closed, as well as adopt Technical Specifications Task Force (TSTF) Improved Standard TS (ISTS) Change Traveler No. 45 (TSTF-45-A), Revision 2, “Exempt Verification of Containment Isolation Valves that are Not Locked, Sealed, or Otherwise Secured.” The proposed amendment will also revise TS 3.3.3.5, “Remote Shutdown System,” to increase the completion time for inoperable Remote Shutdown System components to a time that is more consistent with their safety significance and remove the requirement to submit a Special Report. It will also relocate the content in Table 3.3-9, “Remote Shutdown System,” and Table 4.3-6, “Remote Shutdown Monitoring Instrumentation Surveillance Requirements,” in accordance with TSTF-266-A, Revision 3, “Eliminate the Remote Shutdown System Table of Instrumentation and Controls.” Additionally, the proposed amendment will update SR 4.3.1.1, Table 4.3-1, “Reactor Trip System Instrumentation Surveillance Requirements,” to address the application of the Surveillance Frequency Control Program to establish the frequency for performance of the Analog Channel Operational Test of select Reactor Trip System instrumentation. Finally, changes are proposed to the administrative controls section of the Harris TS to reflect current organizational titles as well as remove reporting requirements that are redundant to existing regulations. The aforementioned proposed changes reflect requirements consistent with those in Revision 5 of NUREG-1431, “Standard Technical Specifications—Westinghouse Plants.”
Proposed Determination | NSHC.
Name of Attorney for Licensee, Mailing Address | Tracey Mitchell LeRoy, Deputy General Counsel, Duke Energy Corporation, 4720 Piedmont Row Dr., Charlotte, NC 28210.
NRC Project Manager, Telephone Number | Michael Mahoney, 301-415-3867.
Energy Northwest; Columbia Generating Station; Benton County, WA
Docket No | 50-397.
Application date | August 29, 2023.
ADAMS Accession No | ML23241B044.
Location in Application of NSHC | Pages 5-7 of Enclosure 1.
Brief Description of Amendment | The proposed amendment would modify Technical Specification 3.6.2.3, “Residual Heat Removal (RHR) Suppression Pool Cooling,” to allow two RHR suppression pool cooling subsystems to be inoperable for 8 hours. The proposed change is consistent with NRC-approved Technical Specification Task Force (TSTF) Traveler TSTF-230-A, Revision 1, “Add New Condition B to LCO [Limiting Condition for Operation] 3.6.2.3, RHR Suppression Pool Cooling.”
Proposed Determination | NSHC.
Name of Attorney for Licensee, Mailing Address | Ryan Lukson, Assistant General Counsel, Energy Northwest, MD 1020, P.O. Box 968, Richland, WA 99352.
NRC Project Manager, Telephone Number | Mahesh Chawla, 301-415-8371.
NextEra Energy Point Beach, LLC; Point Beach Nuclear Plant, Units 1 and 2; Manitowoc County, WI
Docket No(s) | 50-266, 50-301.
Application date | September 19, 2023.
ADAMS Accession No | ML23262B018.
Location in Application of NSHC | Pages 4-5 of Enclosure.
Brief Description of Amendments | The proposed amendments will revise Technical Specification (TS) 5.5.17, “Pre-Stressed Concrete Containment Tendon Surveillance Program,” for consistency with the requirements of 10 CFR 50.55(a), “Codes and standards.” Specifically, the proposed changes replace the reference to Regulatory Guide 1.35 with a reference to section XI, subsection IWL, of the American Society of Mechanical Engineers Boiler and Pressure Vessel Code as contained in NUREG-1431, Revision 5, “Standard Technical Specifications—Westinghouse Plants.” The licensee also proposes to delete the provisions of Surveillance Requirement 3.0.2 in TS 5.5.17.
Proposed Determination | NSHC.
Name of Attorney for Licensee, Mailing Address | Steven Hamrick, Senior Attorney, 801 Pennsylvania Ave. NW, Suite 220, Washington, DC 20004.
NRC Project Manager, Telephone Number | Scott Wall, 301-415-2855.
Nine Mile Point Nuclear Station, LLC and Constellation Energy Generation, LLC; Nine Mile Point Nuclear Station, Units 1 and 2; Oswego County, NY
Docket Nos | 50-220, 50-410.
Application date | August 18, 2023.
ADAMS Accession No | ML23230A010.
Location in Application of NSHC | Pages 2-3 of Attachment 1.
Brief Description of Amendments | The proposed amendments would remove the Nine Mile Point 3 Nuclear Project, LLC, (NMP3) designation from the Nine Mile Point Nuclear Station, Unit 1 (NMP1), and Nine Mile Point Nuclear Station. Unit 2 (NMP2) technical specifications (TSs) which are not applicable to the current design features of the NMP site. Specifically, Section 5.0, “Design Features,” in the NMP1 TS and Section 4.0, “Design Features,” Figure 4.1-1 in the NMP2 TS would be revised to reflect as they were prior to the issuance of License Amendments Nos. 212 (NMP1) and 142 (NMP2), which were issued on July 12, 2012 (ADAMS Accession No. ML12157A556). In addition, the name “Entergy Nuclear FitzPatrick, LLC” would be revised on Figure 5.1-1 for NMP1 and Figure 4.1-1 for NMP2 to “James A. FitzPatrick Nuclear Power Plant, LLC,” to reflect the current name of the licensee for the James A. Fitzpatrick nuclear power plant site. The original license amendment requests associated with License Amendment Nos. 212 and 142 were submitted with reference to the Combined License (COL) application supporting the proposed NMP3 project. Following receipt of the aforementioned approved amendments, Constellation Energy Nuclear Group, LLC (CENG), the previous owners of NMP1 and NMP2, halted further progress in pursuing a COL for NMP3. As a result, CENG decided not to implement the changes into the NMP1 and NMP2 TS. Additionally, CEG has no proposed plans for NMP3.
Proposed Determination | NSHC.
Name of Attorney for Licensee, Mailing Address | Jason Zorn, Associate General Counsel, Constellation Energy Generation, 101 Constitution Ave. NW, Suite 400 East, Washington, DC 20001.
NRC Project Manager, Telephone Number | Richard Guzman, 301-415-1030.
PSEG Nuclear LLC; Hope Creek Generating Station; Salem County, NJ; PSEG Nuclear LLC; Salem Nuclear Generating Station, Unit Nos. 1 and 2; Salem County, NJ
Docket Nos | 50-354, 50-272, 50-311.
Application date | September 6, 2023.
ADAMS Accession No | ML23249A260 (Package).
Location in Application of NSHC | Pages 57-59 of the Enclosure.
Brief Description of Amendments | The proposed amendments change the licensing basis as described in the Salem Generating Station, (Salem), Units 1 and 2, and Hope Creek Generating Station (Hope Creek) Updated Final Safety Analysis Reports to account for modifications to the Exclusion Area Boundary for Salem and Hope Creek.
Proposed Determination | NSHC.
Name of Attorney for Licensee, Mailing Address | Francis Romano, PSEG—Services Corporation, 80 Park Plaza, T-10, Newark, NJ 07102.
NRC Project Manager, Telephone Number | James Kim, 301-415-4125.
Southern Nuclear Operating Company, Inc.; Vogtle Electric Generating Plant, Unit 4; Burke County, GA
Docket No | 52-026.
Application date | August 28, 2023.
ADAMS Accession No | ML23240A706.
Location in Application of NSHC | Pages E-6 and E-7 of the Enclosure.
Brief Description of Amendment | Southern Nuclear Operating Company requests an amendment to the combined license (COL) for Vogtle Electric Generating Plant (VEGP) Unit 4 (License Number NPF-92). The proposed amendment would revise the VEGP Unit 4 COL by removing the content of Appendix C, “Inspections, Tests, Analyses, and Acceptance Criteria,” in its entirety along with appropriate revisions to specific references to Appendix C within the COL.
Proposed Determination | NSHC.
Name of Attorney for Licensee, Mailing Address | Millicent Ronnlund, Vice President and General Counsel, Southern Nuclear Operating Co., Inc., P.O. Box 1295, Birmingham, AL 35201-1295.
NRC Project Manager, Telephone Number | William Gleaves, 301-415-5848.
Tennessee Valley Authority; Watts Bar Nuclear Plant, Units 1 and 2; Rhea County, TN
Docket No(s) | 50-390, 50-391.
Application date | August 7, 2023.
ADAMS Accession No | ML23219A011.
Location in Application of NSHC | Pages E6—E7 of the Enclosure.
Brief Description of Amendment(s) | The proposed amendments would permanently revise Watts Bar Nuclear Plant, Units 1 and 2 Technical Specification Table 1.1-1, “MODES,” footnotes (b) and (c) to allow continued operation of Watts Bar Units 1 and 2 with at least 53 of 54 reactor pressure vessel head closure bolts fully tensioned.
Proposed Determination | NSHC.
Name of Attorney for Licensee, Mailing Address | David Fountain, Executive VP and General Counsel, Tennessee Valley Authority, 6A West Tower, 400 West Summit Hill Drive, Knoxville, TN 37902.
NRC Project Manager, Telephone Number | Kimberly Green, 301-415-1627.
Virginia Electric and Power Company; Surry Power Station, Unit Nos. 1 and 2; Surry County, VA
Docket No(s) | 50-280, 50-281.
Application date | August 10, 2023.
ADAMS Accession No | ML23226A186.
Location in Application of NSHC | Section 4.2 of Attachment 1.
Brief Description of Amendment(s) | The proposed amendments would revise the Surry Unit 1 and Unit 2 Technical Specifications 3.7, “Instrumentation Systems,” to add low head safety injection flow indication for accident monitoring instrumentation in accordance with Regulatory Guide 1.97, Revision 3, “Criteria for Accident Monitoring Instrumentation for Nuclear Power Plants.”
Proposed Determination | NSHC.
Name of Attorney for Licensee, Mailing Address | W.S. Blair, Senior Counsel, Dominion Energy Services, Inc., 120 Tredegar St., RS-2, Richmond, VA 23219.
NRC Project Manager, Telephone Number | John Klos, 301-415-5136.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, were published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuance(s)
Dominion Energy Nuclear Connecticut, Inc.; Millstone Power Station, Unit No. 3; New London County, CT
Docket No | 50-423.
Amendment Date | September 26, 2023.
ADAMS Accession No | ML23226A005.
Amendment No | 287.
Brief Description of Amendment(s) | The amendment supplemented a portion of the current nuclear criticality safety analysis for the Millstone Power Station, Unit 3 (Millstone 3), spent fuel pool and would allow Dominion Energy Nuclear Connecticut, Inc. to store a new fuel design, GAIA, containing gadolinia, a neutron burnable poison, in the Millstone 3 fuel storage racks.
Public Comments Received as to Proposed NSHC (Yes/No) | No.
Duke Energy Progress, LLC; Shearon Harris Nuclear Power Plant, Unit 1; Wake and Chatham Counties, NC
Docket No | 50-400.
Amendment Date | October 3, 2023.
ADAMS Accession No | ML23234A170.
Amendment No | 199.
Brief Description of Amendment(s) | The amendment revised the Shearon Harris Nuclear Power Plant, Unit 1, Renewed Facility Operating License (RFOL) and technical specifications (TSs). Specifically, the amendment revised the TSs to remove the reference to Duke Energy procedure EGR-NGGC-0153, “Engineering Instrument Setpoints.” The amendment also removed Attachment 1 “[Transamerica Delaval, Inc.] TDI Diesel Engine Requirements,” in the RFOL.
Public Comments Received as to Proposed NSHC (Yes/No) | No.
Energy Harbor Nuclear Corp. and Energy Harbor Nuclear Generation LLC; Beaver Valley Power Station, Units 1 and 2; Beaver County, PA
Docket No(s) | 50-334, 50-412.
Amendment Date | October 2, 2023.
ADAMS Accession No | ML23198A359.
Amendment No(s) | 322 (Unit 1) and 212 (Unit 2).
Brief Description of Amendment(s) | The amendments revised the Beaver Valley Technical Specifications (TS) 5.6.3, “Core Operating Limits Report (COLR),” by adding the Westinghouse Electric Company LLC (Westinghouse) Topical Report WCAP-16996-P-A, Revision1, “Realistic LOCA [loss-of-coolant accident] Evaluation Methodology Applied to the Full Spectrum of Break Sizes (FULL SPECTRUM LOCA Methodology),” to the list of approved analytical methods used to determine the core operating limits and by adding a note to the LOCA methods listed in TS 5.6.3.b to restrict their future use. The amendment also removed the reference to Zircalloy from the list of fuel rod cladding in TS 4.2.1, “Fuel Assemblies.”
Public Comments Received as to Proposed NSHC (Yes/No) | No.
Florida Power & Light Company; Turkey Point Nuclear Generating Unit Nos. 3 and 4; Miami-Dade County, FL
Docket No(s) | 50-250, 50-251.
Amendment Date | September 27, 2023.
ADAMS Accession No | ML23234A192.
Amendment No(s) | 297 (Unit 3) and 290 (Unit 4).
Brief Description of Amendment(s) | The amendments revised the Turkey Point Nuclear Generating, Unit Nos. 3 and 4, technical specifications to Improved Standard Technical Specifications, consistent with NUREG-1431, Revision 5, “Standard Technical Specifications—Westinghouse Plants.”
Public Comments Received as to Proposed NSHC (Yes/No) | No.
Nebraska Public Power District; Cooper Nuclear Station; Nemaha County, NE
Docket No | 50-298.
Amendment Date | October 11, 2023.
ADAMS Accession No | ML23264A805.
Amendment No | 273.
Brief Description of Amendment(s) | The amendment revised the technical specifications to add an exception to entering Mode 4 if both required residual heat removal (RHR) shutdown cooling subsystems are inoperable. The changes incorporated Technical Specifications Task Force (TSTF) Traveler TSTF-580, Revision 1, “Provide Exception from Entering Mode 4 with No Operable RHR Shutdown Cooling.”
Public Comments Received as to Proposed NSHC (Yes/No) | No.
Tennessee Valley Authority; Browns Ferry Nuclear Plant, Units 1, 2, and 3; Limestone County, AL
Docket No(s) | 50-259, 50-260, 50-296.
Amendment Date | September 8, 2023.
ADAMS Accession No | ML23205A213.
Amendment No(s) | 332 (Unit 1), 355 (Unit 2), and 315 (Unit 3).
Brief Description of Amendment(s) | The amendments revised Browns Ferry technical specification (TS) actions applicable when a residual heat removal (RHR) shutdown cooling subsystem is inoperable and provide a TS exception to entering Mode 4 if both required RHR shutdown cooling subsystems are inoperable.
Public Comments Received as to Proposed NSHC (Yes/No) | No.
Union Electric Company; Callaway Plant, Unit No. 1; Callaway County, MO
Docket No | 50-483.
Amendment Date | September 20, 2023.
ADAMS Accession No | ML23166B088.
Amendment No | 233.
Brief Description of Amendment | The amendment revised the Callaway technical specifications and authorized changes to the Callaway Final Safety Analysis Report to support a full scope application of the regulations in 10 CFR 50.67, “Accident source term,” and described in Regulatory Guide 1.183, Revision 0, “Alternative Radiological Source Terms for Evaluating Design Basis Accidents at Nuclear Power Reactors.”
Public Comments Received as to Proposed NSHC (Yes/No) | No.
Union Electric Company; Callaway Plant, Unit No. 1; Callaway County, MO
Docket No | 50-483.
Amendment Date | September 25, 2023.
ADAMS Accession No | ML23228A025.
Amendment No | 234.
Brief Description of Amendment | The amendment revised Callaway Technical Specification 5.5.16, “Containment Leakage Rate Testing Program,” by replacing the existing reference to Regulatory Guide 1.163, “Performance-Based Containment Leak-Test Program,” with a reference to Nuclear Energy Institute (NEI) Topical Report NEI 94-01, Revision 3-A, “Industry Guideline for Implementing Performance-Based Option of 10 CFR part 50, appendix J,” dated July 2012, and the limitations and conditions specified in NEI 94-01, Revision 2-A, dated October 2008, as the documents used to implement the performance-based containment leakage testing program in accordance with Option B of 10 CFR part 50, appendix J, “Primary Reactor Containment Leakage Testing for Water-Cooled Power Reactors.”
Public Comments Received as to Proposed NSHC (Yes/No) | No.
Union Electric Company; Callaway Plant, Unit No. 1; Callaway County, MO
Docket No | 50-483.
Amendment Date | October 5, 2023.
ADAMS Accession No | ML23240A369.
Amendment No | 235.
Brief Description of Amendment | The amendment revised the Callaway technical specifications to allow loading of a limited number of Framatome, Inc GAIA fuel with M5® as a fuel cladding material in operating cycle 27 to obtain incore performance data and acquire operational experience associated with the GAIA fuel design. In addition to this amendment, the NRC issued an exemption from certain requirements of 10 CFR 50.46, “Acceptance criteria for emergency core cooling systems [(ECCS)] for light-water nuclear power reactors,” and 10 CFR part 50, appendix K, “ECCS Evaluation Models,” to allow the use of Framatome M5® alloy as a fuel rod cladding material.
Public Comments Received as to Proposed NSHC (Yes/No) | No.

III. Notice of Issuance of Amendments to Facility Operating Licenses and Combined Licenses and Final Determination of No Significant Hazards Consideration and Opportunity for a Hearing (Exigent Circumstances or Emergency Situation)

Since publication of the last monthly notice, the Commission has issued the following amendments. The Commission has determined for these amendments that the application for the amendment complies with the standards and requirements of the Atomic Energy Act of 1954, as amended (the Act), and the Commission's rules and regulations. The Commission has made appropriate findings as required by the Act and the Commission's rules and regulations in 10 CFR chapter I, which are set forth in these license amendments.

Because of exigent circumstances or emergency situation associated with the date the amendments were needed, there was not time for the Commission to publish, for public comment before issuance, its usual notice of consideration of issuance of amendment, proposed NSHC determination, and opportunity for a hearing.

For exigent circumstances, the Commission has either issued a Federal Register notice providing opportunity for public comment or has used local media to provide notice to the public in the area surrounding a licensee's facility of the licensee's application and of the Commission's proposed determination of NSHC. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its NSHC determination. In such case, the license amendment has been issued without opportunity for comment prior to issuance. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that NSHC is involved.

The Commission has applied the standards of 10 CFR 50.92 and has made a final determination that the amendments involve NSHC. The basis for this determination is contained in the documents related to each action. Accordingly, the amendments have been issued and made effective as indicated. For those amendments that have not been previously noticed in the Federal Register, within 60 days after the date of publication of this notice, any persons (petitioner) whose interest may be affected by this action may file a request for a hearing and petition for leave to intervene (petition) with respect to the action. Petitions shall be filed in accordance with the guidance concerning the Commission's “Agency Rules of Practice and Procedure” in 10 CFR part 2 as discussed in section II.A of this document.

Unless otherwise indicated, the Commission has determined that the amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated in the safety evaluation for the amendment.

For further details with respect to these actions, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuance(s)—Exigent/Emergency Circumstances
DTE Electric Company; Fermi, Unit 2; Monroe County, MI
Docket No | 50-341.
Amendment Date | September 18, 2023.
ADAMS Accession No | ML23243A885.
Amendment No | 225.
Brief Description of Amendment(s) | This exigent amendment allowed a one-time extension of the Condition A, completion time, in Fermi 2 Technical Specifications 3.7.2, “Emergency Equipment Cooling Water (EECW)/Emergency Equipment Service Water (EESW) System and Ultimate Heat Sink (UHS),” from 72 hours to 7 days to allow online repairs to the Division I Mechanical Draft Cooling Tower A and C fan pedestals. The one-time extension would be used twice, once for each fan, and will expire at 11:59 p.m. on November 19, 2023.
Local Media Notice (Yes/No) | No.
Public Comments Requested as to Proposed NSHC (Yes/No) | No.
Southern Nuclear Operating Company, Inc.; Joseph M. Farley Nuclear Plant, Units 1 and 2; Houston County, AL
Docket No(s) | 50-348, 50-364.
Amendment Date | August 24, 2023.
ADAMS Accession No | ML23235A296.
Amendment No(s) | 247 (Unit 1) and 244 (Unit 2).
Brief Description of Amendment(s) | The amendments revised Technical Specification (TS) 3.6.5, “Containment Air Temperature.” Specifically, the amendments revised the operating license and approved a one-time NOTE to Appendix A TS 3.6.5, “Limiting Condition for Operation,” to revise the limit on containment average air temperature from ≤120°F to ≤122°F (Fahrenheit) effective until 0600 hours central time on September 9, 2023. The license amendments were issued under emergency circumstances as described in the provisions of 10 CFR 50.91(a)(5), due to the time critical nature of the amendment.
Local Media Notice (Yes/No) | Yes.
Public Comments Requested as to Proposed NSHC (Yes/No) | No.

Dated: October 18, 2023.
For the Nuclear Regulatory Commission.
Victor G. Cusumano,
Acting Deputy Director, Division of Operating Reactor Licensing, Office of Nuclear Reactor Regulation.

[FR Doc. 2023-23382 Filed 10-30-23; 8:45 am]

BILLING CODE 7590-01-P